DEPARTMENT OF TRANSPORTATION

Federal Aviation Administration

14 CFR Part 39

[Docket No. FAA-2013-0699; Directorate Identifier 2012-NM-198-AD]

RIN 2120-AA64

Airworthiness Directives; Fokker Services B.V. Airplanes

AGENCY: Federal Aviation Administration (FAA), DOT.

ACTION: Notice of proposed rulemaking (NPRM).

SUMMARY: We propose to adopt a new airworthiness directive (AD) for certain Fokker Services B.V. Model F.28 Mark 0070 and 0100 airplanes. This proposed AD was prompted by three reports of cracking in the rear pressure bulkhead (RPBH) web. This proposed AD would require inspecting the RPBH web for cracking, and repairing if necessary. We are proposing this AD to detect and correct cracking of the RPBH web, which could result in in-flight decompression of the airplane and possible injury to the occupants.

DATES: We must receive comments on this proposed AD by October 7, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Fokker Services B.V., Technical Services Dept., P.O. Box 1357, 2130 EL Hoofddorp, the Netherlands; telephone +31 (0)88-6280-350; fax +31 (0)88-6280-111; email technicalservices@fokker.com; Internet http://www.myfokkerfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the MCAI, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2013-0699; Directorate Identifier 2012-NM-198-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2012-0219, dated October 19, 2012 (referred to after this as the Mandatory Continuing Airworthiness Information, or “the MCAI”), to correct an unsafe condition for the specified products. The MCAI states:

Three reports have been received of a crack in the rear pressure bulkhead (RPBH) web, just below the horizontal beam XI between buttock lines BL425L and BL425R, in the centre web bay below the pressure relief valves.

This condition, if not detected and corrected, could result in an exponential crack growth rate, possibly leading to failure of the affected RPBH web, resulting in in-flight decompression of the aeroplane and possible injury to occupants.

A repetitive inspection requirement has been published in issue 10 of Fokker Services [Airworthiness Limitations Section] ALS Report SE-623 under task number 534106-00-05. The threshold to start this ALS-task is 30,000 [total] flight cycles (FC). However, it is known that many aeroplanes have already exceeded this threshold.

For the reasons described above, this [EASA] AD requires a one-time inspection [detailed visual or high frequency eddy current inspection] of the affected RPBH web for cracks and, depending on findings, accomplishment of a repair. The repair can also be applied at any time as a modification, thereby exempting the aeroplane from (further) repetitive ALS task 534106-00-05 inspections.

You may obtain further information by examining the MCAI in the AD docket.

Relevant Service Information

Fokker Services B.V. has issued Fokker Service Bulletin SBF100-53-120, dated May 15, 2012; and Fokker Service Bulletin SBF100-53-121, dated May 15, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The EASA AD 2012-0219, dated October 19, 2012, permits, under certain conditions, postponement of crack repair. This proposed AD would require repair before further flight for all cracking.

Costs of Compliance

We estimate that this proposed AD affects 4 airplanes of U.S. registry.

We estimate the following costs to comply with this proposed AD:

Estimated Costs
Action | Labor cost | Parts cost | Cost per product | Cost on U.S. operators
Inspection | 5 work-hours × $85 per hour = $425 | $0 | $425 | $1,700

We estimate the following costs to do any necessary repairs that would be required based on the results of the proposed inspection. We have no way of determining the number of aircraft that might need these repairs:

On-Condition Costs
Action | Labor cost | Parts cost | Cost per product
On-condition inspection and repair | 16 work-hours × $85 per hour = $1,360 | $0 | $1,360

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Fokker Services B.V.: Docket No. FAA-2013-0699; Directorate Identifier 2012-NM-198-AD.

(a) Comments Due Date

We must receive comments by October 7, 2013.

(b) Affected ADs

None.

(c) Applicability

This AD applies to Fokker Services B.V. Model F.28 Mark 0070 and 0100 airplanes, certificated in any category, as identified in Fokker Service Bulletin SBF100-53-120, dated May 15, 2012.

(d) Subject

Air Transport Association (ATA) of America Code 53, Fuselage.

(e) Reason

This AD was prompted by three reports of cracking in the rear pressure bulkhead (RPBH) web. We are issuing this AD to detect and correct cracking of the RPBH web, which could result in in-flight decompression of the airplane and possible injury to the occupants.

(f) Compliance

You are responsible for having the actions required by this AD performed within the compliance times specified, unless the actions have already been done.

(g) Inspection

Before the accumulation of 30,000 total flight cycles, or within 12 months after the effective date of this AD, whichever occurs later: Do the actions specified in paragraph (g)(1) or (g)(2) of this AD.

(1) Do a detailed inspection for cracking of the rear side of the RPBH web below beam XI between buttock line (BL) 425L and BL 425R, in accordance with PART 1 of the Accomplishment Instructions of Fokker Service Bulletin SBF100-53-120, dated May 15, 2012.

(2) Do a high frequency eddy current (HFEC) inspection for cracking of the forward side of the RPBH web below beam XI between BL 425L and BL 425R, in accordance with PART 2 of the Accomplishment Instructions of Fokker Service Bulletin SBF100-53-120, dated May 15, 2012.

Note 1 to paragraph (g) of this AD: Fokker Services All Operators Message AOF100.176, dated May 15, 2012; and AOF100.178, dated September 10, 2012; provide additional information concerning the subject addressed by this AD.

(h) On-condition Inspection and Repair

(1) If any cracking is found during the inspections specified in paragraph (g)(1) or (g)(2) of this AD: Before further flight, repair the cracking, in accordance with the Accomplishment Instructions of Fokker Service Bulletin SBF100-53-121, dated May 15, 2012.

(2) For any airplane inspected as specified in paragraph (g)(1) of this AD and no cracking was found: Within 12 months after that inspection, do the HFEC inspection specified in PART 2 of the Accomplishment Instructions of Fokker Service Bulletin SBF100-53-120, dated May 15, 2012. If any cracking is found: Before further flight, repair the cracking, in accordance with the Accomplishment Instructions of Fokker Service Bulletin SBF100-53-121, dated May 15, 2012.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to Mandatory Continuing Airworthiness Information (MCAI) European Aviation Safety Agency (EASA) Airworthiness Directive 2012-0219, dated October 19, 2012, for related information, which can be found in the AD docket on the Internet at http://www.regulations.gov.

(2) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com. You may review copies of the referenced service information at the FAA, Transport Airplane Directorate, 1601 Lind Avenue SW., Renton, WA. For information on the availability of this material at the FAA, call 425-227-1221.

Issued in Renton, Washington, on August 16, 2013.
Jeffrey E. Duven,
Acting Manager, Transport Airplane Directorate, Aircraft Certification Service.

[FR Doc. 2013-20585 Filed 8-22-13; 8:45 am]

BILLING CODE 4910-13-P